DEPARTMENT OF THE TREASURY

Alcohol and Tobacco Tax and Trade Bureau

27 CFR Part 9

[Docket No. TTB-2008-0001; T.D. TTB-74; Re: Notice No. 81]

RIN 1513-AB45

Establishment of the Haw River Valley Viticultural Area (2007R-179P)

AGENCY: Alcohol and Tobacco Tax and Trade Bureau, Treasury.

ACTION: Final rule; Treasury decision.

SUMMARY: This Treasury decision establishes the 868-square mile “Haw River Valley” viticultural area in Alamance, Caswell, Chatham, Guilford, Orange, and Rockingham Counties, North Carolina. We designate viticultural areas to allow vintners to better describe the origin of their wines and to allow consumers to better identify wines they may purchase.

DATES: Effective Dates: April 29, 2009.

FOR FURTHER INFORMATION CONTACT: N.A. Sutton, Regulations and Rulings Division, Alcohol and Tobacco Tax and Trade Bureau, 925 Lakeville St., No. 158, Petaluma, CA 94952; phone 415-271-1254.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features that distinguish the proposed viticultural area from surrounding areas;

• A description of the specific boundary of the proposed viticultural area, based on features found on United States Geological Survey (USGS) maps; and

• A copy of the appropriate USGS map(s) with the proposed viticultural area's boundary prominently marked.

Haw River Valley Petition

Patricia McRitchie of McRitchie Associates, LLC, submitted a petition to establish the 868-square mile Haw River Valley viticultural area in North Carolina on behalf of all the local grape growers and winemakers.

The proposed Haw River Valley viticultural area is located in the Piedmont in north-central North Carolina. According to the USGS maps and the written boundary description submitted with the petition, the Haw River Valley region lies between the cities of Greensboro and Chapel Hill, and includes the southeastern-flowing Haw River and its accompanying watershed. The proposed Haw River Valley viticultural area lies to the east of the established Yadkin Valley viticultural area (27 CFR 9.174) and the established Swan Creek viticultural area (27 CFR 9.211). According to the petitioner, the proposed viticultural area encompasses approximately 868 square miles and includes 60 acres of vineyards and 6 wineries. The petitioner submitted a map indicating that the 14 vineyards within the proposed viticultural area are geographically disbursed throughout the area.

The petitioner explains that the distinguishing features of the proposed Haw River Valley viticultural area include its geology, soils, elevation, and climate. Its inland location, between the Atlantic Ocean and the Appalachian Mountains, and its complex geological history combine to create a unique viticultural region. The Haw River watershed, which comprises 98 percent of the proposed viticultural area, was used to determine the proposed boundary line.

Name Evidence

According to the petitioner, the “Haw” name originated with the Sissipahaw Indians, Native Americans living in small villages along the Haw River. After the arrival of the first Europeans in the 16th century, the Sissipahaw Indians eventually abandoned their villages along the Haw River and joined other Native Americans in other parts of the North Carolina Piedmont.

The petitioner states that the “Haw River” and “Haw River Valley” names both have been used in reference to the region that the viticultural area petition describes. In the early 1700's John Lawson, an English naturalist and surveyor, wrote an account of his party crossing the “famous Hau-River” to get a safe distance from the Sissipahaw Indians. Also, in the “Shuttle & Plow: A History of Alamance County, North Carolina” (Alamance County Historical Association, 1999), Carole Troxler and William Vincent explain that the names “Hawfields” and “Haw River Settlement” reference the earliest colonial settlements in the Haw River Valley. Further, in “Orange County, 1752-1952” (The Journal of Southern History, May 1954), authors Hugh Lefler and Paul Wager reference the Haw River Valley.

According to evidence presented in the petition, the Haw River Valley name continues to be used to describe the region. The Burlington/Alamance County Convention Center and Visitors Bureau Web site (http://www.burlington-area-nc.org/events.asp) describes a September 9, 2006, Paddle[boat] dinner cruise that experiences the “richness of the Haw River Valley.” A flyer for the Haw River Festival for the Community describes a display of arrowheads and artifacts found in the Haw River Valley. The Haw River Valley Web site (http://www.hawrivervalley.com/) describes the area as a large, fertile region encompassing parts of Rockingham, Caswell, Guilford, Alamance, and Chatham Counties in North Carolina.

On November 23, 2006, the Greensboro News Record ran an article describing a strong storm depositing “prodigious rain into the Haw River valley and effectively shutting down parts of the region.”

Boundary Evidence

According to the petitioner, the boundary of the proposed Haw River Valley viticultural area is based on nearly the entirety of the Haw River watershed's distinctive underlying geology and soils. The Haw River is approximately 110 miles long, and the proposed viticultural area includes that portion of the Haw River between Williamsburg and Griffins Crossroad, a town located approximately 2.5 miles northwest of Everett Jordan Lake. The Haw River headwaters start northwest of Greensboro, and the river travels east and south-southeast, gaining momentum in the Piedmont region. The river eventually flows into the Everett Jordan Lake in Chatham County, joins the Deep River south of the Everett Jordan Lake dam, and then flows into the Cape Fear River.

The urban, nonagricultural Greensboro region lies close to, but outside of, the proposed northwestern portion of the boundary. Also, differing geology, soils, and elevations distinguish the Haw River watershed from the Dan River watershed to the north, the Inner Coastal Province to the east, the Sandhills to the south, and the western Piedmont Province to the west.

Distinguishing Features

According to the petitioner, the distinguishing features of the proposed Haw River Valley viticultural area include its geology, soils, elevation, and climate. The combination of the underlying geology of the Haw River Valley and its inland, nonmountainous geography influences the soils and the climate and creates a unique grape-growing region.

Geology

The petitioner states that Matthew Mayberry, of the Mayberry Land Company in Elkin, North Carolina, provided the geological data and documentation for the Haw River Valley viticultural area petition. Citing “North Carolina: The Years Before Man,” by Fred Beyer (Carolina Academic Press, Durham, North Carolina, 1991), Mr. Mayberry provided an interpretation of the geology in the Haw River Valley, as follows.

The Piedmont and Blue Ridge Provinces share a geologic history dating back to the formation of the continental landmasses. The mountain building of the region is attributed to plate tectonics, the spectrum of uplifting, and erosion. Long-term erosion has reduced the mountains to lower, more level terrains that gently slope toward the ocean. The Piedmont and Coastal Plain landforms are part of the erosional leveling process of the third global tectonic cycle.

The rock units in the Haw River Valley region date back approximately 700 million years. In contrast, the age of the rock units of the Yadkin Valley region, in the western part of the Piedmont Province, date back approximately 1.5 billion years.

The Haw River Valley region, including its rock units, is the geological result of volcanic metamorphism and igneous activity stemming from island arcs. Island arcs form when a continental plate overrides an oceanic plate, resulting in subduction zones that create volcanoes. In the northeastern part of the proposed viticultural area a caldera formed in an area of formerly intense volcanic activity. The caldera collapsed into a 36- by 9-mile ellipse-shaped area that igneous rock eventually filled.

The proposed Haw River Valley viticultural area lies in the Carolina Slate Belt, a result of tectonic movements of the North American and African continental plates. The slate belt trends to the northwest and disappears under the Carolina Coastal Plain, which extends southeast and eventually dips under the Atlantic Ocean.

Finally, according to Mr. Mayberry, the major rock types in the Haw River Valley include the following: Porpyritic Granite/Felsic Intrusive Complex, Felsic Gneiss, Mafic Volcanics, Felsic Volcanics, Intermediate Intrusive Rocks, Mica Gneiss, and Mica Schist (Muscovite and/or Biotite). The Haw River Valley igneous and metamorphic rocks, composed of magma, differ from those rocks formed from magma in the western Piedmont and Appalachian Mountains.

Soils

The petitioner states that James Lewis, soil scientist, Natural Resources Conservation Service, United States Department of Agriculture, provided the soils information for the Haw River Valley viticultural area petition. In his research, Mr. Lewis consulted the published soil surveys of Alamance, Caswell, Chatham, Guilford, Orange, and Rockingham Counties, North Carolina, and available updates to existing soil surveys.

According to Mr. Lewis, the soils of the proposed Haw River Valley viticultural area, compared to those of the surrounding regions, have unique and distinguishable characteristics. Most of the soils in the Haw River Valley are acidic and low in natural fertility.

The proposed Haw River Valley viticultural area is entirely in the udic soil moisture regime. (The udic moisture regime is common to soils of humid climates with well-distributed rainfall or with enough rain in summer that the amount of stored moisture plus rainfall is approximately equal to, or exceeds, the amount of evapotranspiration. In most years, at some time during the year water moves down through the soil.) Further, the proposed viticultural area lies dominantly in the thermic soil temperature regime, averaging 59 to 72 degrees F at a soil depth of 20 inches.

The soils in the proposed viticultural area formed primarily in residuum, or saprolite, weathered from igneous, intermediate, and mafic intrusive rocks and in felsic and intermediate volcanic rocks of the Carolina Slate Belt.

In the central portion of the proposed Haw River Valley viticultural area, the soils formed in residuum from mafic intrusive rocks. In these areas the soils have a clayey subsoil of mixed mineralogy and slightly better natural fertility than that of the soils to the east and south. The Mecklenburg soils are on nearly level and moderately steep uplands. These soils have moderately slow permeability. The Enon and Iredell soils are on uplands and some side slopes. These soils have a clayey subsoil, and they have a high or very high shrink-swell potential, respectively; because of these properties, they have poor internal drainage and perch water during wet periods.

In the western and northeastern portions of the proposed viticultural area, the soils formed mainly in igneous and intermediate intrusive rocks. In these areas the Cecil, Appling, Vance, Helena, and Sedgefield soils are dominant. Typically, these soils are deep and have a clayey subsoil. Also scattered throughout these areas are the Enon and Iredell soils formed in mafic, intrusive rocks.

In the northwesternmost portion of the proposed viticultural area, the soils formed in residuum derived from metamorphic rocks. In this area the Fairview, Clifford, Toast, and Rasalo soils on nearly level to steep uplands are dominant. Further, except for the Rasalo soils, these soils are very deep and well drained, and have a clayey subsoil, moderate permeability, and good internal structure. In the Rasalo soils, because of high shrinking and swelling in the clayey subsoil and slow permeability, the soils tend to perch water during wet periods.

In the eastern and southern portions of the Haw River Valley and in parts of the southwestern and northwestern portions, the soils formed primarily in residuum derived from felsic and intermediate volcanic rocks. In these areas the Georgeville and Herndon soils are very deep and well drained, and have a loamy surface layer, a clayey subsoil, moderate permeability, and good internal structure. These soils are on gently sloping to moderately steep uplands. Also in these areas are the Callison, Secrest, and Kirksey soils. These soils are moderately well drained and have a loamy surface layer and subsoil. These soils are on level flats and gently sloping upland ridges, in depressions, and around heads of drains. They vary in depth depending on the underlying soft and hard bedrock; consequently, they have poor internal drainage and perch water during wet periods.

The soils weathered from rocks within the proposed Haw River Valley viticultural area have significant differences compared to the soils in the surrounding areas to the east, west, and south. However, they are similar to the soils in the surrounding north portion and in the northwesternmost portion of the proposed viticultural area.

East of the proposed Haw River Valley viticultural area, on the Inner Coastal Plain, the soils, predominantly Udults, have a thermic temperature regime, a udic moisture regime, a loamy or sandy surface layer, and a loamy or clayey subsoil. The soils are generally deep and well drained to poorly drained, and maintain adequate moisture during the viticultural growing season.

West of the proposed Haw River Valley viticultural area, most soils formed in saprolite weathered from igneous intrusive rocks and some gneisses and schists of the Charlotte Belt. However, some soils formed in residuum derived from intrusions of mafic rocks and have a clay subsoil of mixed mineralogy. The Gaston and Mecklenburg soils have moderate or moderately slow permeability and are moderately suitable for viticulture. The Enon and Iredell soils are also west of the proposed viticultural area.

According to “Scientists Study Why More Storms Form in the Sandhills in the Summer,” a news release dated July 5, 2001, from North Carolina State University, the soils are deep and sandy in the Sandhills region south of the proposed Haw River Valley viticultural area. Unlike the clay soils in the Piedmont, these soils, like the sandy loam of the Inner Coastal Plain, do not have much clay.

Elevation

The elevations in the proposed Haw River Valley viticultural area range from 350 feet at the southeastern boundary corner to over 800 feet at the northwestern boundary corner, according to elevation maps by John Boyer (Virginia Polytechnic Institute and State University, 2001) that the North Carolina Grape Council provided. The four physiographic regions of North Carolina are the eastern Outer Coastal Plain, the Inner Coastal Plain, the central Piedmont Province, and the western Blue Ridge Province, as shown on the Physiography of North Carolina map by M.A. Medina et al. (North Carolina Geological Survey, Division of Land Resources, 2004).

The Haw River Valley region lies in the Piedmont Province near the demarcation of the fall line with the Inner Coastal Plain, according to “History and Environment of North Carolina's Piedmont Evolution of a Value-Added Society,” by John Rogers (University of North Carolina, Department of Geology, 1999). Areas near the fall zone vary from 300 to 600 feet in elevation, in contrast with the approximately 1,500-foot elevation at the foot of the Blue Ridge Mountains, as shown on the Boyer maps.

The Piedmont Province consists of generally rolling, well rounded hills and ridges with a difference in elevation of a few hundred feet between the hills and valleys, according to the Boyer maps. The Inner Coastal Plain, which has stair-step planar terraces that dip gently toward the ocean, ranges from 25 to 600 feet in elevation, the petitioner explains.

Climate

The climatic features that distinguish the proposed Haw River Valley viticultural area are precipitation, air temperature, and growing season, according to the petitioner. The Haw River Valley has more moderate temperatures and greater precipitation than those in the surrounding areas outside the proposed boundary line. The climate within the Haw River Valley, which is generally similar throughout, varies from the surrounding regions outside the proposed viticultural area, according to data obtained from the Southeast Regional Climate Center (SRCC) and from horticultural information leaflets by Katharine Perry (North Carolina State University, revised December 1998).

The data from SRCC includes those from stations within and outside the boundary line of the proposed Haw River Valley viticultural area, according to the petitioner. The table below lists the SRCC weather stations consulted and the direction and distance of the location of each weather station in relation to the Haw River Valley.

Weather station | Compass direction from Haw River Valley | Approximate distance from Haw River Valley
Brookneal, Virginia | North | 84 miles.
Louisburg, North Carolina | East | 52 miles.
Pinehurst, North Carolina | South | 70 miles.
Mocksville, North Carolina | West | 50 miles.

The air temperatures in the Haw River Valley region are generally warmer than those in the area to the north, cooler than those in the areas to the south and east, and similar to those in the area to the west on the Piedmont Province, the petitioner explains using SRCC data. The petitioner also provides, in the table below, the SRCC average annual high and low air temperatures, snow accumulation, and rainfall for the Haw River Valley and the areas outside the proposed boundary line.

Relation to the proposed Haw River Valley viticultural area | Average annual: High air temperature | Average annual: Low air temperature | Average annual: Snow accumulation (in.) | Average annual: Rainfall (in.)
Inside the boundary line | 69.8 °F | 46.6 °F | 5.9 | 45.27
To the north | 67 °F | 42 °F | 11.3 | 41.65
To the east | 71.4 °F | 46 °F | 4.1 | 45.98
To the south | 72.7 °F | 49.2 °F | 4.1 | 49.11
To the west | 70 °F | 45.1 °F | 9.9 | 44.57

According to the petitioner, the annual frost-free growing season of the proposed Haw River Valley viticultural area runs from April 1 to November 1 and totals 214 days. The growing season is 2 to 4 weeks longer than that for the region to the west, and is similar to those for the regions to the immediate south and to the east of the proposed boundary line. The growing season length and frost-free dates fall within the parameters for successful viticulture of vinifera, hybrid, and Muscadine grapes, according to the “Analysis for Viticultural Suitability in North Carolina,” a map prepared by John Boyer (Virginia Polytechnic Institute and State University, 2001).

Notice of Proposed Rulemaking and Comments Received

TTB published Notice No. 81 regarding the proposed Haw River Valley viticultural area in the Federal Register (73 FR 16800) on March 31, 2008. In that notice, TTB invited comments by May 30, 2008, from all interested persons. We expressed particular interest in receiving comments on whether the proposed area name, Haw River Valley, as well as the Haw River name, would result in a conflict with currently used brand names. We also solicited comments on the sufficiency and accuracy of the name, boundary, climatic, and other required information submitted in support of the petition. We received four comments from individuals in response to that notice. All four comments supported the establishment of the Haw River Valley viticultural area as proposed.

TTB Finding

After careful review of the petition and the comments received, TTB finds that the evidence submitted supports the establishment of the proposed viticultural area. Therefore, under the authority of the Federal Alcohol Administration Act and part 4 of our regulations, we establish the “Haw River Valley” viticultural area in Alamance, Caswell, Chatham, Guilford, Orange, and Rockingham Counties, North Carolina, effective 30 days from the publication date of this document.

Boundary Description

See the narrative boundary description of the viticultural area in the regulatory text published at the end of this document.

Maps

The maps for determining the boundary of the viticultural area are listed below in the regulatory text.

Impact on Current Wine Labels

Part 4 of the TTB regulations prohibits any label reference on a wine that indicates or implies an origin other than the wine's true place of origin. With the establishment of this viticultural area and its inclusion in part 9 of the TTB regulations, its name, “Haw River Valley,” is recognized under 27 CFR 4.39(i)(3) as a name of viticultural significance. The text of the new regulation clarifies this point. In addition, with the establishment of the Haw River Valley viticultural area, the name “Haw River” standing alone will be considered a term of viticultural significance. Consumers and vintners could reasonably attribute the quality, reputation, or other characteristic of wine made from grapes grown in the proposed Haw River Valley viticultural area to the name Haw River itself. A name also has viticultural significance when so determined by a TTB officer (see 27 CFR 4.39(i)(3)). Therefore, the proposed part 9 regulatory text set forth in this document specifies both “Haw River Valley” and “Haw River” as terms of viticultural significance for purposes of part 4 of the TTB regulations.

Once this final rule becomes effective, wine bottlers using “Haw River Valley” or “Haw River” in a brand name, including a trademark, or in another label reference as to the origin of the wine, will have to ensure that the product is eligible to use the viticultural area's full name, “Haw River Valley,” as an appellation of origin.

For a wine to be labeled with a viticultural area name or with a brand name that includes a viticultural area name or other term identified as being viticulturally significant in part 9 of the TTB regulations, at least 85 percent of the wine must be derived from grapes grown within the area represented by that name or other term, and the wine must meet the other conditions listed in 27 CFR 4.25(e)(3). If the wine is not eligible for labeling with the viticultural area name or other viticulturally significant term and that name or term appears in the brand name, then the label is not in compliance and the bottler must change the brand name and obtain approval of a new label. Similarly, if the viticultural area name or other viticulturally significant term appears in another reference on the label in a misleading manner, the bottler would have to obtain approval of a new label. Accordingly, if a previously approved label uses the name “Haw River Valley” or “Haw River” for a wine that does not meet the 85 percent standard, the previously approved label will be subject to revocation upon the effective date of the establishment of the Haw River Valley viticultural area.

Different rules apply if a wine has a brand name containing a viticultural area name or other term of viticultural significance that was used as a brand name on a label approved before July 7, 1986. See 27 CFR 4.39(i)(2) for details.

Regulatory Flexibility Act

We certify that this regulation will not have a significant economic impact on a substantial number of small entities. This regulation imposes no new reporting, recordkeeping, or other administrative requirement. Any benefit derived from the use of a viticultural area name is the result of a proprietor's efforts and consumer acceptance of wines from that area. Therefore, no regulatory flexibility analysis is required.

Executive Order 12866

This rule is not a significant regulatory action as defined by Executive Order 12866. Therefore, it requires no regulatory assessment.

Drafting Information

N.A. Sutton of the Regulations and Rulings Division drafted this notice.

List of Subjects in 27 CFR Part 9

Wine.

The Regulatory Amendment

For the reasons discussed in the preamble, we amend 27 CFR, chapter 1, part 9, as follows:

PART 9—AMERICAN VITICULTURAL AREAS

1. The authority citation for part 9 continues to read as follows:

Authority: 27 U.S.C. 205.

Subpart C—Approved American Viticultural Areas

2. Amend subpart C by adding § 9.214 to read as follows:

§ 9.214 Haw River Valley.

(a) Name. The name of the viticultural area described in this section is “Haw River Valley”. For purposes of part 4 of this chapter, “Haw River Valley” and “Haw River” are terms of viticultural significance.

(b) Approved maps. The two United States Geological Survey 1:100,000-scale metric topographic maps used to determine the boundary of the Haw River Valley viticultural area are titled:

(1) Greensboro, North Carolina, 1984; and

(2) Chapel Hill, North Carolina, 1984.

(c) Boundary. The Haw River Valley viticultural area is located in all of Alamance County and portions of Caswell, Chatham, Guilford, Orange, and Rockingham Counties. The boundary of the Haw River Valley viticultural area is as described below:

(1) Begin at a point on the Greensboro map at the intersection of the Caswell and Orange Counties boundary line with Lynch Creek, southeast of Corbett and the Corbett Ridge, and then proceed in a straight line southeast 2 miles to the intersection of North Carolina State Highway 49 and an unnamed, light-duty road, known locally as McCulloch Road, located approximately 1 mile northeast of Carr, in west Orange County; then

(2) Proceed in a straight line south-southwest 11.9 miles, crossing over U.S. Interstate 85, to Buckhorn at Turkey Hill Creek in west Orange County; then

(3) Proceed in a straight line southeast 5.2 miles, crossing onto the Chapel Hill map, to its intersection with Dodsons Crossroad and an unnamed, light-duty road that runs generally north-northeast-south-southwest in west Orange County; then

(4) Proceed south-southwest on the unnamed, light-duty road 3.4 miles to its intersection with North Carolina State Highway 54, also known as Star Route 54, east of White Cross in west Orange County; then

(5) Proceed southeast in a straight line 14.1 miles, crossing over Terrells Mountain, Wilkinson Creek and several of its eastern tributaries, and U.S. Route 15-501, until the line intersects with an unnamed road, known locally as Gilead Church Road, and U.S. Route 64 at Griffins Crossroads in Chatham County; then

(6) Proceed generally west along U.S. Route 64 approximately 20.7 miles to its intersection with U.S. Route 421 in Siler City, Chatham County; then

(7) Proceed generally northwest on U.S. Route 421 approximately 5.6 miles to its intersection with the Randolph County line, southeast of Staley; then

(8) Proceed straight north along the Randolph County line 7.4 miles to its intersection with the Guilford County line; then

(9) Proceed straight west along the Randolph County line 5.8 miles to its intersection with U.S. Route 421; then

(10) Proceed in a straight line north-northwest 20.5 miles, crossing onto the Greensboro map, to its intersection with U.S. Route 29 and North Carolina State Highway 150, between Browns Summit and Monticello in Guilford County; then

(11) Proceed generally east and north on North Carolina State Highway 150 approximately 4.3 miles to its intersection with North Carolina State Highway 87, east-northeast of Williamsburg in southeast Rockingham County; then

(12) Proceed in a straight line east-northeast 8.3 miles, crossing over the Caswell County line to a point at the intersection of the 236-meter elevation line, as marked on the map, and an unnamed road, known locally as Cherry Grove Road; then

(13) Proceed east and southeast along the unnamed road, known locally as Cherry Grove Road, 5 miles to its intersection with North Carolina State Highway 62 at Jericho in Caswell County; then

(14) Proceed generally southeast on North Carolina State Highway 62 approximately 1.8 miles to its intersection with an unnamed road, known locally as Bayne's Road at Anderson in Caswell County; then

(15) Proceed generally east on the unnamed road known locally as Baynes Road 2 miles to its intersection with North Carolina State Highway 119 at Baynes in Caswell County; then

(16) Proceed generally south-southeast along North Carolina State Highway 119 approximately 1.7 miles to its intersection with the Caswell County line; then

(17) Proceed straight east along the Caswell County line 4.3 miles to the beginning point.

Signed: January 23, 2009.
John J. Manfreda,
Administrator.
Approved: February 17, 2009.
Timothy E. Skud,
Deputy Assistant Secretary, (Tax, Trade, and Tariff Policy).

[FR Doc. E9-7035 Filed 3-27-09; 8:45 am]

BILLING CODE 4810-31-P